INTERNATIONAL TRADE COMMISSION

[Investigation No. 731-TA-669 (Second Review)]

Cased Pencils From China

Determination

On the basis of the record ¹ developed in the subject five-year review, the United States International Trade Commission (Commission) determines, pursuant to section 751(c) of the Tariff Act of 1930 (19 U.S.C. 1675(c)) (the Act), that revocation of the antidumping duty order on cased pencils from China would be likely to lead to continuation or recurrence of material injury to an industry in the United States within a reasonably foreseeable time.

¹ The record is defined in sec. 207.2(f) of the Commission's Rules of Practice and Procedure (19 CFR 207.2(f)).

Background

The Commission instituted this review on July 1, 2005 (70 FR 38192) and determined on October 4, 2005 that it would conduct an expedited review (70 FR 60557, October 18, 2005).

The Commission transmitted its determination in this review to the Secretary of Commerce on November 30, 2005. The views of the Commission are contained in USITC Publication 3820 (November 2005), entitled Cased Pencils from China: Investigation No. 731-TA-669 (Second Review).

Issued: November 30, 2005.
By order of the Commission.
Marilyn R. Abbott,
Secretary to the Commission.

[FR Doc. E5-6895 Filed 12-6-05; 8:45 am]

BILLING CODE 7020-02-P